DEPARTMENT OF HEALTH AND HUMAN SERVICES

Centers for Disease Control and Prevention

[30Day-25-0572]

Agency Forms Undergoing Paperwork Reduction Act Review

In accordance with the Paperwork Reduction Act of 1995, the Centers for Disease Control and Prevention (CDC) has submitted the information collection request titled “CDC and ATSDR Health Message Testing System (HMTS)” to the Office of Management and Budget (OMB) for review and approval. CDC previously published a “Proposed Data Collection Submitted for Public Comment and Recommendations” notice on June 4, 2024 to obtain comments from the public and affected agencies. CDC received one non-substantive comment. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

CDC and ATSDR Health Message Testing System (HMTS) (OMB Control No. 0920-0572, Exp. 10/31/2024)—Extension—Office of Communications (OC), Centers for Disease Control and Prevention (CDC)

Background and Brief Description

Before CDC disseminates a health message to the public, the message always undergoes scientific review. However, even though the message is based on sound scientific content, there is no guarantee that the public will understand a health message or that the message will move people to take recommended action. Communication theorists and researchers agree that for health messages to be as clear and influential as possible, target audience members or representatives must be involved in developing the messages and provisional versions of the messages must be tested with members of the target audience. Increasingly, there are circumstances when CDC must move swiftly to protect life, prevent disease, or calm public anxiety. Health message testing is even more important in these instances, because of the critical nature of the information need.

In the interest of timely health message dissemination, many programs forgo the important step of testing messages on dimensions such as clarity, salience, appeal, and persuasiveness (i.e., the ability to influence behavioral intention). Skipping this step avoids the delay involved in the standard OMB review process, but at a high potential cost. Untested messages can waste communication resources and opportunities because the messages can be perceived as unclear or irrelevant. Untested messages can also have unintended consequences, such as jeopardizing the credibility of federal health officials.

The CDC/ATSDR Health Message Testing System (HMTS), a Generic information collection, enables programs across CDC and ATSDR to collect the information they require in a timely manner to:

• Ensure quality and prevent waste in the dissemination of health information by CDC to the public;

• Refine message concepts and test draft materials for clarity, salience, appeal, and persuasiveness to target audiences;

• Guide the action of health communication officials who are responding to health emergencies, Congressionally-mandated campaigns with short timeframes, media-generated public concern, time-limited communication opportunities, trends, and the need to refresh materials or dissemination strategies in an ongoing campaign.

Each testing instrument will be based on specific health issues or topics. Although it is not possible to develop one instrument for use in all instances, the same kinds of questions are asked in most message testing. This package includes generic questions and formats that can be used to develop health message testing data collection instruments. These include a list of screening questions, comprised of demographic and introductory questions, along with other questions that can be used to create a mix of relevant questions for each proposed message testing data collection method. However, programs may request to use additional questions if needed. Message testing questions will focus on issues such as comprehension, impressions, personal relevance, content and wording, efficacy of response, channels, and spokesperson/sponsor. Such information will enable message developers to enhance the effectiveness of messages for intended audiences. Data collection methods proposed for HMTS include intercept interviews, telephone interviews, focus groups, online surveys, and cognitive interviews. In almost all instances, data will be collected by outside organizations under contract with CDC.

For many years, CDC programs have used HMTS to test and refine message concepts and test draft materials for clarity, salience, appeal, and persuasiveness to target audiences. Having this Generic Clearance available has enabled them to test their information and get critical health information out to the public quickly. Over the last three years, more than 27 messages have been tested using this OMB Clearance package.

CDC's Division of Tuberculosis Elimination was approved to conduct program evaluation for their Latent Tuberculosis Infection (LTBI) Awareness Campaign within target audiences—non-US-born Vietnamese and Filipino persons and the healthcare professionals (primary care physicians, nurse practitioners, and physician assistants) that serve them. Assessing the immediate effects of campaign materials provides helpful insights that can be used to inform adjustments of campaign materials for intended audiences.

CDC's Division of Nutrition, Physical Activity, and Obesity (DNPAO) is tasked with leading our nation's efforts to prevent chronic diseases by promoting good nutrition, regular physical activity, and a healthy weight. One of the key ways DNPAO does this is by providing state and community partners with practical tools to promote healthy lifestyles such as the SCHMC communication resources. It is imperative that this ad testing be conducted so that CDC/DNPAO can best support grantees and local partners by providing timely information about how specific ads resonate with key audiences. The insights gained from the ad testing also provided DNPAO with timely information to inform development of additional ads and communication materials that they will resonate with audiences and lead to intended actions/behavior changes related to increasing physical activity, reducing sugary drink consumption, and improving infant and toddler nutrition.

The National Center for Injury Prevention and Control (NCIPC) collected data to assess older adults' perceptions of products developed as part of the expansion phase of CDC's Still Going Strong Campaign. Digital products were developed as part of this effort to expand the campaign to address social connectedness and isolation. The messages conveyed the importance of social connectedness to health to maintaining a high quality of life as we age. Participants learned about how social connectedness as well as physical and mental health are interconnected and critical to the well-being of older adults.

Over 5,400 burden hours were used during the previous approval period. Because the availability of this ICR has been so critical to programs in disseminating their materials and information to the public in a timely manner, the Office of Communications is requesting approval for an estimated 2,470 annual burden hours for this three-year Extension of the information collection. There is no cost to the respondents other than their time.

Estimated Annualized Burden Hours
Type of respondents | Form name | Number of respondents | Number of responses per respondent | Average burden per response (in hours)
Public Health Professionals, Health Care Providers, State and Local Public Health Officials, Emergency Responders, General Public | Moderator's Guides, Eligibility Screeners, Interview Guides, Opinion Surveys, Consent Forms | 18,525 | 1 | 8/60

Jeffrey M. Zirger,
Lead, Information Collection Review Office, Office of Public Health Ethics and Regulations, Office of Science, Centers for Disease Control and Prevention.

[FR Doc. 2024-23860 Filed 10-15-24; 8:45 am]

BILLING CODE 4163-18-P